ENVIRONMENTAL PROTECTION AGENCY

40 CFR Part 52

[R03-OAR-2005-PA-0013; FRL-7923-4]

Approval and Promulgation of Air Quality Implementation Plans; Pennsylvania; VOC and NOx RACT Determinations for Seven Individual Sources

Correction

Proposed rule document 05-11548 was inadvertently published in the Rules and Regulations section in issue of Friday, June 10, 2005, appearing on pages 33850-33852. It should have appeared in the Proposed Rules section.

FR Doc. C5-11548 Filed 6-15-05; 8:45 am]

BILLING CODE 1505-01-D